DEPARTMENT OF DEFENSE

Department of the Navy

[Docket ID: USN-2021-HQ-0010]

Proposed Collection; Comment Request

AGENCY: The Office of the Assistant Secretary of the Navy, Department of Defense (DoD).

ACTION: Information collection notice.

SUMMARY: In compliance with the Paperwork Reduction Act of 1995, the Office of Civilian Human Resources announces a proposed public information collection and seeks public comment on the provisions thereof. Comments are invited on: Whether the proposed collection of information is necessary for the proper performance of the functions of the agency, including whether the information shall have practical utility; the accuracy of the agency's estimate of the burden of the proposed information collection; ways to enhance the quality, utility, and clarity of the information to be collected; and ways to minimize the burden of the information collection on respondents, including through the use of automated collection techniques or other forms of information technology.

DATES: Consideration will be given to all comments received by January 14, 2022.

ADDRESSES: You may submit comments, identified by docket number and title, by any of the following methods:

Federal eRulemaking Portal: http://www.regulations.gov. Follow the instructions for submitting comments.

Mail: DoD cannot receive written comments at this time due to the COVID-19 pandemic. Comments should be sent electronically to the docket listed above.

Instructions: All submissions received must include the agency name, docket number and title for this Federal Register document. The general policy for comments and other submissions from members of the public is to make these submissions available for public viewing on the internet at http://www.regulations.gov as they are received without change, including any personal identifiers or contact information.

FOR FURTHER INFORMATION CONTACT: To request more information on this proposed information collection or to obtain a copy of the proposal and associated collection instruments, please write to the Office of the Department of the Navy Information Management Control Officer, 2000 Navy Pentagon, Rm. 4E563, Washington, DC 20350, Ms. Ashley John or call 703-614-7583.

SUPPLEMENTARY INFORMATION:

Title; Associated Form; and OMB Number: Department of the Navy (DON).

Reasonable Accommodations (RA) Tracker; SECNAV Form 12306/1T Confirmation of Reasonable Accommodation Request; OMB Control Number 0703-0063.

Needs and Uses: The information collection requirement is necessary to track, monitor, review, and process requests for reasonable accommodations applicants for employment. This information will be collected by DON Equal Employment Opportunity personnel involved in the Reasonable Accommodation process and data input into the Reasonable Accommodation Tracker (electronic information system) pursuant to Executive Order 13163. Official Reasonable Accommodation case files are secured with access granted on a strictly limited basis.

Affected Public: Individuals or households.

Annual Burden Hours: 33 hours.

Number of Respondents: 100.

Responses per Respondent: 1.

Annual Responses: 100.

Average Burden per Response: 20 minutes.

Frequency: On occasion.

Dated: November 8, 2021.
Aaron T. Siegel,
Alternate OSD Federal Register Liaison Officer, Department of Defense.

[FR Doc. 2021-24796 Filed 11-12-21; 8:45 am]

BILLING CODE 5001-06-P